DEPARTMENT OF TRANSPORTATION

Federal Aviation Administration

14 CFR Part 39

[Docket No. FAA-2012-0143; Directorate Identifier 2011-NM-077-AD]

RIN 2120-AA64

Airworthiness Directives; Fokker Services B.V. Airplanes

AGENCY: Federal Aviation Administration (FAA), DOT.

ACTION: Notice of proposed rulemaking (NPRM).

SUMMARY: We propose to supersede an existing airworthiness directive (AD) that applies to all Fokker Services B.V. Model F.28 Mark 0070 and 0100 airplanes. The existing AD currently requires revising the airworthiness limitations section (ALS) of the instructions for continued airworthiness for certain airplanes, and the FAA-approved maintenance program for certain other airplanes, to incorporate new limitations for fuel tank systems. Since we issued that AD, Fokker Services B.V. has revised a Fokker 70/100 maintenance review board (MRB) document with revised limitations, tasks, thresholds, and intervals. This proposed AD would revise the maintenance program to incorporate the limitations, tasks, thresholds, and intervals specified in that Fokker MRB document. We are proposing this AD to reduce the potential of ignition sources inside fuel tanks, which, in combination with flammable fuel vapors, could result in fuel tank explosions and consequent loss of the airplane.

DATES: We must receive comments on this proposed AD by April 6, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Fokker Services B.V., Technical Services Dept., P.O. Box 231, 2150 AE Nieuw-Vennep, the Netherlands; telephone +31 (0)252-627-350; fax +31 (0)252-627-211; email technicalservices.fokkerservices@stork.com; Internet http://www.myfokkerfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA 1601 Lind Avenue SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2012-0143; Directorate Identifier 2011-NM-077-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On July 9, 2004, we issued AD 2004-15-08, Amendment 39-13742 (69 FR 44586, July 27, 2004). This AD required actions intended to address an unsafe condition on the products listed above.

Since we issued AD 2004-15-08, Amendment 39-13742 (69 FR 44586, July 27, 2004): The European Aviation Safety Agency (EASA), which is the Technical Agent for the Member States of the European Community, has issued EASA Airworthiness Directive 2011-0157, dated August 25, 2011 (referred to after this as “the MCAI”), to correct an unsafe condition for the specified products. The MCAI states:

Fokker Services have published issue 8 of report SE-623 dated 17 March 2011, which is part of the Airworthiness Limitations Section of the Instructions for Continued Airworthiness, referred to in Section 06, Appendix 1, of the Fokker 70/100 Maintenance Review Board (MRB) document. The complete Airworthiness Limitations Section currently consists of:

—Certification Maintenance Requirements (CMRs)—report SE-473, issue 8,

—Airworthiness Limitation Items (ALIs) and Safe Life Items (SLIs)—report SE-623, issue 8,

—Fuel ALIs and Critical Design Configuration Control Limitations (CDCCLs)—report SE-672, issue 2.

The instructions contained in those reports have been identified as mandatory actions for continued airworthiness.

For the reasons described above, this [EASA] AD retains the requirements of EASA AD 2011-0046, which is superseded, and requires the implementation of the inspections and limitations as specified in the Airworthiness Limitation Section of the Instructions for Continued Airworthiness, referred to in Section 06, Appendix 1 of the Fokker 70/100 MRB document, reports SE-473, SE-623 and SE-672 at the above-mentioned issues.

You may obtain further information by examining the MCAI in the AD docket.

The FAA has examined the underlying safety issues involved in fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (66 FR 23086, May 7, 2001). In addition to new airworthiness standards for transport airplanes and new maintenance requirements, this rule included Special Federal Aviation Regulation No. 88 (“SFAR 88,” Amendment 21-78, and subsequent Amendments 21-82 and 21-83).

Among other actions, SFAR 88 (66 FR 23086, May 7, 2001) requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: single failures, single failures in combination with a latent condition(s), and in-service failure experience. For all four criteria, the evaluations included consideration of previous actions taken that may mitigate the need for further action.

The Joint Aviation Authorities (JAA) has issued a regulation that is similar to SFAR 88 (66 FR 23086, May 7, 2001). (The JAA is an associated body of the European Civil Aviation Conference (ECAC) representing the civil aviation regulatory authorities of a number of European States who have agreed to co-operate in developing and implementing common safety regulatory standards and procedures.) Under this regulation, the JAA stated that all members of the ECAC that hold type certificates for transport category airplanes are required to conduct a design review against explosion risks.

We have determined that the actions identified in this AD are necessary to reduce the potential of ignition sources inside fuel tanks, which, in combination with flammable fuel vapors, could result in fuel tank explosions and consequent loss of the airplane.

Relevant Service Information

Fokker Services B.V. has issued the following documents:

• Fokker Services B.V. Report SE-473, “Fokker 70/100 Certification Maintenance Requirements,” Issue 8, dated September 1, 2009.

• Fokker Services B.V. Report SE-623, “Fokker 70/100 Airworthiness Limitation Items and Safe Life Limits,” Issue 8, dated December 20, 2010.

• Fokker Services B.V. Report SE-672, “Fokker 70/100 Fuel Airworthiness Limitation Items (ALI) and Critical Design Configuration Control Limitations (CDCCL),” Issue 2, dated December 1, 2006.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 4 products of U.S. registry.

The actions that are required by AD 2004-15-08, Amendment 39-13742 (69 FR 44586, July 27, 2004) and retained in this proposed AD take about 1 work-hour per product, at an average labor rate of $85 per work hour. Required parts cost about $0 per product. The actions that are required by AD 2008-06-20, Amendment 39-15432 (73 FR 14661, March 19, 2008) and retained in this proposed AD take about 1 work-hour per product, at an average labor rate of $85 per work hour. Required parts cost about $0 per product. Based on these figures, the estimated cost of the currently required actions is $170 per product.

We estimate that it would take about 1 work-hour per product to comply with the new basic requirements of this proposed AD. The average labor rate is $85 per work-hour. Based on these figures, we estimate the cost of the proposed AD on U.S. operators to be $1,020, or $255 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13742 (69 FR 44586, July 27, 2004) and adding the following new AD:

Fokker Services B.V.: Docket No. FAA-2012-0143; Directorate Identifier 2011-NM-077-AD.

(a) Comments Due Date

We must receive comments by April 6, 2012.

(b) Affected ADs

This AD supersedes AD 2004-15-08, Amendment 39-13742 (69 FR 44586, July 27, 2004). This AD also affects AD 2008-06-20, Amendment 39-15432 (73 FR 14661, March 19, 2008).

(c) Applicability

This AD applies to Fokker Services B.V. Model F.28 Mark 0070 and 0100 airplanes; certificated in any category; all serial numbers.

Note 1: This AD requires revisions to certain operator maintenance documents to include new actions (e.g., inspections) and/or Critical Design Configuration Control Limitations (CDCCLs). Compliance with these actions and/or CDCCLs is required by 14 CFR 91.403(c). For airplanes that have been previously modified, altered, or repaired in the areas addressed by this AD, the operator may not be able to accomplish the actions described in the revisions. In this situation, to comply with 14 CFR 91.403(c), the operator must request approval for an alternative method of compliance according to paragraph (m) of this AD. The request should include a description of changes to the required actions that will ensure the continued operational safety of the airplane.

(d) Subject

Air Transport Association (ATA) of America Code 28: Fuel.

(e) Reason

This AD was prompted by a revised Fokker 70/100 maintenance review board (MRB) document with revised limitations, tasks, thresholds, and intervals. We are issuing this AD to reduce the potential of ignition sources inside fuel tanks, which, in combination with flammable fuel vapors, could result in fuel tank explosions and consequent loss of the airplane.

(f) Compliance

You are responsible for having the actions required by this AD performed within the compliance times specified, unless the actions have already been done.

Restatement of Requirements of AD 2004-15-08, Amendment 39-13742 (69 FR 44586, July 27, 2004)

(g) New Airworthiness Limitations Revision

Within 6 months after August 31, 2004 (the effective date of AD 2004-15-08, Amendment 39-13742 (69 FR 44586, July 27, 2004)), revise the Airworthiness Limitations section (ALS) of the Instructions for Continued Airworthiness by incorporating Fokker Services B.V. Report SE-623, “Fokker 70/100 Airworthiness Limitations Items and Safe Life Items,” Issue 2, dated September 1, 2001; and Fokker Services B.V. Report SE-473, “Fokker 70/100 Certification Maintenance Requirements,” Issue 5, dated July 16, 2001; into Section 6 of the Fokker 70/100 MRB document. (These reports are already incorporated into Fokker 70/100 MRB document, Revision 10, dated October 1, 2001.) Once the actions required by this paragraph have been accomplished, the original issue of Fokker Services B.V. Report SE-623, “Fokker 70/100 Airworthiness Limitations Items and Safe Life Items,” dated June 1, 2000, may be removed from the ALS of the Instructions for Continued Airworthiness. Doing the actions in paragraph (j) of this AD terminates the requirements of paragraph (g) of this AD.

(h) No Alternative Inspections or Intervals

After the actions specified in paragraph (g) of this AD have been accomplished, no alternative inspections or inspection intervals may be approved for the structural elements specified in the documents listed in paragraph (g) of this AD, except as required by paragraph (j) of this AD.

Note 2: Notwithstanding any other maintenance or operational requirements, components that have been identified as airworthy or installed on the affected airplanes before the revision of the ALS for certain airplanes, and the FAA-approved maintenance program for certain other airplanes, as required by paragraph (i) of this AD, do not need to be reworked in accordance with the CDCCLs. However, once the ALS for certain airplanes, and the FAA-approved maintenance program for certain other airplanes has been revised, future maintenance actions on these components must be done in accordance with the CDCCLs.

New Requirements of This AD

(i) Maintenance Program Revision

Within 3 months after the effective date of this AD, revise the maintenance program to incorporate the airworthiness limitations specified in the Fokker maintenance review board (MRB) documents listed in paragraphs (i)(3), (i)(4), and (i)(5) of this AD. For all tasks and retirement lifes identified in the Fokker MRB documents listed in paragraphs (i)(3), (i)(4), and (i)(5) of this AD, the initial compliance times start from the later of the times specified in paragraphs (i)(1) and (i)(2) of this AD, and the repetitive inspections must be accomplished thereafter at the interval specified in the Fokker MRB documents listed in paragraphs (i)(3), (i)(4), and (i)(5) of this AD.

(1) Within 3 months after the effective date of this AD.

(2) At the time specified in the documents listed in paragraphs (i)(3), (i)(4), and (i)(5) of this AD.

(3) Fokker Services B.V. Report SE-473, “Fokker 70/100 Certification Maintenance Requirements,” Issue 8, dated September 1, 2009.

(4) Fokker Services B.V. Report SE-623, “Fokker 70/100 Airworthiness Limitation Items and Safe Life Limits,” Issue 8, dated December 20, 2010.

(5) Fokker Services B.V. Report SE-672, “Fokker 70/100 Fuel Airworthiness Limitation Items (ALI) and Critical Design Configuration Control Limitations (CDCCL),” Issue 2, dated December 1, 2006.

(j) No Alternative Actions, Intervals, and/or CDCCLs

After accomplishing the revision required by paragraph (i) of this AD, no alternative actions (e.g., inspections), intervals, or CDCCLs may be used unless the actions, intervals, or CDCCLs are approved as an alternative method of compliance (AMOC) in accordance with the procedures specified in paragraph (m)(1) of this AD.

(k) Terminating Action

Accomplishing the actions in paragraph (i) of this AD terminates the requirements of paragraph (g) of this AD.

(l) Method of Compliance With AD 2008-06-20, Amendment 39-15432 (73 FR 14661, March 19, 2008)

Accomplishing the actions in paragraph (i) of this AD, terminates the requirements of paragraphs (f)(1), (f)(2), (f)(3), (f)(4), and (f)(5) of AD 2008-06-20, Amendment 39-15432 (73 FR 14661, March 19, 2008).

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(n) Related Information

Refer to MCAI EASA Airworthiness Directive 2011-0157, dated August 25, 2011, and the service information specified in paragraphs (n)(1), (n)(2), and (n)(3) of this AD, for related information.

(1) Fokker Services B.V. Report SE-473, “Fokker 70/100 Certification Maintenance Requirements,” Issue 8, dated September 1, 2009.

(2) Fokker Services B.V. Report SE-623, “Fokker 70/100 Airworthiness Limitation Items and Safe Life Limits,” Issue 8, dated December 20, 2010.

(3) Fokker Services B.V. Report SE-672, “Fokker 70/100 Fuel Airworthiness Limitation Items (ALI) and Critical Design Configuration Control Limitations (CDCCL),” Issue 2, dated December 1, 2006.

Issued in Renton, Washington, on February 1, 2012.
Ali Bahrami,
Manager, Transport Airplane Directorate, Aircraft Certification Service.

[FR Doc. 2012-3906 Filed 2-17-12; 8:45 am]

BILLING CODE 4910-13-P